DEPARTMENT OF THE INTERIOR

Bureau of Reclamation

[RR02054000, 14XR0680A1, RX021489433320900]

Notice of Public Review and Comment Period Extension for the Draft Environmental Impact Statement for Central Valley Project Municipal and Industrial Water Shortage Policy, Central Valley, California

AGENCY: Bureau of Reclamation, Interior.

ACTION: Notice.

SUMMARY: The Bureau of Reclamation is extending the public review and comment period for the Central Valley Project Municipal and Industrial Water Shortage Policy Draft Environmental Impact Statement (EIS). The Draft EIS was initially noticed by Reclamation on November 19, 2014 and public comments were originally due on January 12, 2015. In response to public requests, the comment period is being extended until March 13, 2015.

DATES: Send written comments on the Draft EIS on or before March 13, 2015.

ADDRESSES: Send written comments or requests for copies to Mr. Tim Rust, Bureau of Reclamation, Resources Management Division, 2800 Cottage Way, Sacramento, CA 95825, or via email to trust@usbr.gov.

To request a compact disc of the Draft EIS, please contact Mr. Tim Rust as indicated above, or call (916) 978-5516. The Draft EIS may be viewed at Reclamation's Web site at http://www.usbr.gov/mp/cvp/mandi/index.html. See Supplementary Information section for locations where copies of the Draft EIS are available for public review.

FOR FURTHER INFORMATION CONTACT: Mr. Tim Rust, Program Manager, Bureau of Reclamation, via email at trust@usbr.gov, or at (916) 978-5516; or Mr. Michael Inthavong, Natural Resources Specialist, Bureau of Reclamation, via email at minthavong@usbr.gov, or at (559) 487-5295.

SUPPLEMENTARY INFORMATION: The comment period is being extended for the Central Valley Project Municipal and Industrial Water Shortage Policy draft EIS. On November 19, 2014, a 53-day public comment period was opened through notification in the Federal Register (79 FR 68912). In response to requests from the public, the comment period is being extended for an additional 18 days. The comment period will now officially close on March 13, 2015.

Background

For background information, see the November 19, 2014, Federal Register notice.

Public Review of Draft EIS

Copies of the Draft EIS are available for public review at the following locations:

1. Bureau of Reclamation, Mid-Pacific Region, Regional Library, 2800 Cottage Way, Sacramento, CA 95825.

2. Natural Resources Library, U.S. Department of the Interior, 1849 C Street NW., Main Interior Building, Washington, DC 20240-0001.

Public Disclosure

Before including your address, phone number, email address, or other personal identifying information in your comment, you should be aware that your entire comment—including your personal identifying information—may be made publicly available at any time. While you can ask us in your comment to withhold your personal identifying information from public review, we cannot guarantee that we will be able to do so.

Dated: December 17, 2014.
Pablo R. Arroyave,
Deputy Regional Director.

[FR Doc. 2015-00155 Filed 1-8-15; 8:45 am]

BILLING CODE 4332-90-P